CHEMICAL SAFETY AND HAZARD INVESTIGATION BOARD

Sunshine Act Meeting; Public Meeting: Reactive chemical hazards, CSB business

AGENCY: Chemical Safety and Hazard Investigation Board (CSB).

ACTION: Notice announcing Sunshine Act public meeting.

SUMMARY: The CSB will hold a public meeting on September 17, 2002 in Houston, Texas at the Hilton Houston Hobby Airport, to deliberate and vote on a series of findings and recommendations arising from a two-year investigation into reactive chemical hazards. The Board will also conduct other business as more fully described below.

DATES: The Public Meeting will be held on Tuesday, September 17, 2002, beginning at 9 a.m. at Hilton Houston Hobby Airport, 8181 Airport Boulevard, Houston, TX 77061, Telephone number: (713) 645-3000.

Pre-Registration: The event is open to the public and there is no fee for attendance. However, attendees are strongly encouraged to pre-register, to ensure adequate seating arrangements. To pre-register, please e-mail your name and affiliation by September 12th, to reactives@csb.gov. Please notify CSB if a translator or interpreter is needed 5 business days prior to the public meeting.

The public meeting will be broadcast live and without charge over the Internet from the CSB Web site, www.chemsafety.gov. The broadcast can be viewed using the Windows Media Player, available from www.microsoft.com. Closed captioning service will be provided.

FOR FURTHER INFORMATION CONTACT: Robert Wager at (202)-261-7636, or e-mail at: reactives@csb.gov.

SUPPLEMENTARY INFORMATION:

Background

On August 24, 2000 the CSB approved an investigative report on the April 1998 explosion at the Morton Specialty Chemical's (now Rohm and Haas) Paterson, New Jersey facility. The report stated that the incident might not have occurred had the company's safety program for reactive chemicals followed recommended industry safety practices. The blast injured nine workers and released chemicals into the neighboring community. The Board adopted a number of recommendations, including two to both the U.S. Environmental Protection Agency (EPA) and the Occupational Safety and Health Administration (OSHA). The first recommendation requested that EPA and OSHA issue joint guidelines for the management of reactive chemical process hazards. The Board believed that existing federal safety standards did not provide sufficient guidance for reactive chemical process safety, in such areas as reporting and investigating deviations from normal operations, the use of chemical screening techniques and the proper design for pressure relief, emergency cooling and safety interlock systems.

The other recommendation involving OSHA and EPA urged the two agencies to join the CSB, and other chemical safety organizations, including industry, in a CSB “hazard investigation” of reactive chemical processes.

Current Investigation

The objectives of CSB's investigation included: evaluation of the impacts of reactive chemical incidents; examination of how OSHA and EPA authorities and regulations address reactive hazards; analysis of the appropriateness and consideration of alternatives to reliance on the National Fire Protection Association (NFPA) instability rating system to define reactive substances covered under OSHA's process safety management (PSM) regulation; examination of how industry and other private sector organizations address reactive hazards; and development of recommendations for reducing the number and severity of reactive chemical incidents.

During its study, the CSB staff examined 167 chemical incidents and held a public hearing on May 30th, 2002, in Paterson, New Jersey, City where the staff presented findings and preliminary conclusions from this investigation to the Board. The hearing also provided a forum for interested parties to provide input prior to CSB's formulation of final recommendations and issuance of a report.

Other Board Business

After the conclusion of the presentation of the reactives investigation report, Board Members will also meet in open session on the following topics: (a) Revisions to CSB strategic plan, (b) update by the Chief Operating Officer on current CSB investigative efforts, and (c) status changes to selected CSB recommendations.

Christopher W. Warner,
General Counsel.

[FR Doc. 02-22853 Filed 9-4-02; 3:45 pm]

BILLING CODE 6350-01-P